FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than November 1, 2024.

A. Federal Reserve Bank of St. Louis (Holly A. Rieser, Senior Manager) P.O. Box 442, St. Louis, Missouri 63166-2034. Comments can also be sent electronically to Comments.applications@stls.frb.org:

1. Teresa Grindstaff and Greg Allen, as co-trustees of the Justin W. Gilliam 2016 Irrevocable Family Trust U/A DTD 11/14/2016, the Paul Grindstaff III 2020 Irrevocable Trust U/A DTD 12/30/2020, the Teresa A. Grindstaff 2021 Irrevocable Trust U/A DTD 12/09/2021, and the Paul Grindstaff Jr 2021 Irrevocable Family Trust U/A DTD 12/27/2021, Paul Grindstaff III and Greg Allen, as co-trustees of the Teresa A. Grindstaff 2021 Irrevocable Family Trust U/A DTD 12/16/2021 and the Paul Grindstaff III 2021 Irrevocable Trust U/A DTD 12/16/2021, Paul Grindstaff III and Ashley L. Grindstaff, as co-trustees of the Paul Grindstaff III and Ashley L Grindstaff Revocable Trust DTD 01/19/2016, Paul Grindstaff III, as co-trustee of the Teresa A. Grindstaff 2012 Family Trust, and Bryant C. Allen and Alta C. Allen, as co-trustees of the Bryant C. Allen and Alta C. Allen Revocable Trust DTD 08/27/2019, all of Farmington, Missouri; Bryana M. Martin, Fort Worth, Texas; and Finian C. Boesch, Cape Girardeau, Missouri; to join the Grindstaff/Allen Control Group, a group acting in concert, to retain voting shares of First State Bancshares, Inc., and thereby indirectly retain voting shares of First State Community Bank, both of Farmington, Missouri. The Grindstaff/Allen Control Group was previously permitted by the Federal Reserve System to acquire control of the voting shares of First State Bancshares, Inc.

B. Federal Reserve Bank of Dallas (Karen Smith, Director, Mergers & Acquisitions) 2200 North Pearl Street, Dallas, Texas 75201-2272. Comments can also be sent electronically to Comments.applications@dal.frb.org:

1. The Amy K. Brown 2010 Trust, the Molly A. Knight 2010 Trust, the David A. Knight 2010 Trust, and the Patrick J Doss 2021 Trust, Billy Francis Knight, as trustee, all of Fort Worth, Texas; to become members of the Doss/Knight Family Group, a group acting in concert, to acquire voting shares of Texas Banc Financial Corp, Fort Worth, Texas, and indirectly acquire voting shares of TexasBank, Brownwood, Texas.

Board of Governors of the Federal Reserve System.
Michele Taylor Fennell,
Associate Secretary of the Board.

[FR Doc. 2024-23969 Filed 10-16-24; 8:45 am]

BILLING CODE P